DEPARTMENT OF LABOR

Employment and Training Administration

[TA-W-62,220]

Agrium U.S., Inc., Kenai Nitrogen Operation, Kenai, AK; Notice of Revised Determination on Reconsideration

By application of December 7, 2007 a petitioner requested administrative reconsideration of the Department's negative determination regarding eligibility for workers and former workers of the subject firm to apply for Trade Adjustment Assistance (TAA) and Alternative Trade Adjustment Assistance (ATAA).

The initial investigation resulted in a negative determination signed on October 29, 2007, was based on the finding that imports of anhydrous ammonia and urea did not contribute importantly to worker separations at the subject plant and no shift of production to a foreign source occurred. The denial notice was published in the Federal Register on November 15, 2007 (72 FR 64247).

In the request for reconsideration, the petitioner provided additional information regarding the subject firm's domestic production of anhydrous ammonia and urea and a shift in this production to a foreign country.

The Department reviewed the findings in the initial investigation and new information presented in the reconsideration. It was revealed that employment and production of anhydrous ammonia and urea declined at Agrium U.S., Inc., Kenai Nitrogen Operation, Kenai, Alaska during January through August 2007 over the corresponding 2006 period. The investigation further revealed that the company increased imports of anhydrous ammonia and urea during the same time period.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

The workers were under an existing TAA/ATAA certification that expired on April 12, 2007.

Conclusion

After careful review of the facts obtained in the investigation, I determine that increases of imports of anhydrous ammonia and urea, produced by Agrium U.S., Inc., Kenai Nitrogen Operation, Kenai, Alaska, contributed importantly to the total or partial separation of workers and to the decline in sales or production at that firm or subdivision. In accordance with the provisions of the Act, I make the following certification:

All workers of Agrium U.S., Inc., Kenai Nitrogen Operation, Kenai, Alaska, who became totally or partially separated from employment on or after April 13, 2007, through two years from the date of this certification, are eligible to apply for adjustment assistance under Section 223 of the Trade Act of 1974, and are eligible to apply for alternative trade adjustment assistance under Section 246 of the Trade Act of 1974.

Signed at Washington, DC, this 8th day of January, 2008.
Elliott S. Kushner,
Certifying Officer, Division of Trade Adjustment Assistance.

[FR Doc. E8-590 Filed 1-15-08; 8:45 am]

BILLING CODE 4510-FN-P